DEPARTMENT OF COMMERCE

International Trade Administration

[A-570-073]

Common Alloy Aluminum Sheet From the People's Republic of China: Final Results of Antidumping Duty Administrative Review; 2020-2021

AGENCY: Enforcement and Compliance, International Trade Administration, Department of Commerce.

SUMMARY: The U.S. Department of Commerce (Commerce) determines that certain companies under review sold common alloy aluminum sheet (aluminum sheet) from the People's Republic of China (China) at less than normal value during the period of review (POR) February 1, 2020, through January 31, 2021.

DATES: Applicable September 8, 2022.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Background

Commerce published the Preliminary Results of this administrative review on March 4, 2022.¹ After publication of the Preliminary Results, interested parties filed case and rebuttal briefs.² On June 15, 2022, we extended the deadline for these final results until August 23, 2022.³ On August 19, 2022, we extended the deadline for these final results until August 31, 2022.⁴ For a full summary of the events that occurred since Commerce published the Preliminary Results, see the Issues and Decision Memorandum.⁵ Commerce conducted this review in accordance with section 751(a) of the Tariff Act of 1930, as amended (the Act).

¹ See Common Alloy Aluminum Sheet from the People's Republic of China: Preliminary Results of Antidumping Duty Administrative Reviews; 2020-2021 (Preliminary Results), and accompanying Preliminary Decision Memorandum (PDM).

² See Aluminum Association Common Alloy Aluminum Sheet Trade Enforcement Working Group (Domestic Industry)'s Letter, “Domestic Industry's Case Brief,” dated April 5, 2022; see also Jiangsu Alcha Aluminum Group Co., Ltd. and its affiliates (collectively, Alcha)'s Letter, “Common Alloy Aluminum Sheet from the People's Republic of China: Alcha Group's Case Brief,” dated April 4, 2022; Domestic Industry's Letter, “Domestic Industry's Rebuttal Case Brief Concerning Jiangsu Alcha Aluminum Co., Ltd,” dated April 13, 2022; and Alcha's Letter, “Common Alloy Aluminum Sheet from the People's Republic of China: Alcha's Rebuttal Brief,” dated April 13, 2022.

³ See Memorandum, “2020-2021 Administrative Review of the Antidumping Duty Order on Common Alloy Aluminum Sheet from the People's Republic of China: Extension of Deadline for Final Results,” dated June 15, 2022.

⁴ See Memorandum, “2020-2021 Administrative Review of the Antidumping Duty Order on Common Alloy Aluminum Sheet from the People's Republic of China: Extension of Deadline for Final Results,” dated August 19, 2022.

⁵ See Memorandum, “Issues and Decision Memorandum for the Final Results of the Administrative Review of the Antidumping Duty Order on Common Alloy Aluminum Sheet from the People's Republic of China; 2020-2021,” dated concurrently with, and hereby adopted by, this notice (Issues and Decision Memorandum).

Scope of the Order ⁶

⁶ See Common Alloy Aluminum Sheet from the People's Republic of China: Antidumping Duty Order, 84 FR 2813 (February 8, 2019) (Order).

The merchandise covered by the Order is common alloy aluminum sheet from China. For a complete description of the scope of the Order, see the Issues and Decision Memorandum.

Analysis of Comments Received

All issues raised in the case and rebuttal briefs filed by interested parties are addressed in the Issues and Decision Memorandum. A list of these issues is attached to this notice.⁷ The Issues and Decision Memorandum is a public document and is on file electronically via Enforcement and Compliance's Antidumping and Countervailing Duty Centralized Electronic Service System (ACCESS). ACCESS is available to registered users at https://access.trade.gov. In addition, a complete version of the Issues and Decision Memorandum can be found at https://access.trade.gov/public/FRNoticesListLayout.aspx.

⁷ See appendix.

Changes From the Preliminary Results

Based on our analysis of the record and the comments received from interested parties, we made certain changes to a surrogate value unit of measure conversion and to the calculation of surrogate financial ratios. Additionally, we changed the surrogate value used for the purchased recycled aluminum input. For a discussion of these changes, see the Issues and Decision Memorandum.

Separate Rates

In the Preliminary Results, Commerce determined that Jiangsu Alcha Aluminum Group Co., Ltd. (Jiangsu Alcha), Alcha International Holdings Limited (Alcha International), and Yinbang Clad Material Co., Ltd. (Yinbang Clad) are eligible for a separate rate.⁸ No interested parties submitted comments on Commerce's preliminary separate rate determinations. For these final results, taking into account Commerce's previous single entity determination,⁹ we continue to determine that the single entity of Jiangsu Alcha, Alcha International, Baotou Alcha Aluminum Co., Ltd. (Baotou Alcha) (collectively, Alcha), is eligible for a separate rate, as is Yinbang Clad.

⁸ See Preliminary Results, 87 FR at 12432; see also Preliminary Results PDM at 5-8.

⁹ In the 2018-2020 administrative review of this antidumping order, Commerce determined that Jiangsu Alcha Aluminum Co., Ltd., Baotou Alcha and Alcha International should be treated as a single entity. Additionally, Commerce determined that Jiangsu Alcha Aluminum Group Co., Ltd. is the successor-in-interest to Jiangsu Alcha Aluminum Co., Ltd. See Common Alloy Aluminum Sheet from the People's Republic of China: Final Results of Antidumping Duty Administrative Review, Final Successor-In-Interest Determination, and Final Determination of No Shipments; 2018-2020, 86 FR 74066 (December 29, 2021).

Rate for Non-Examined Separate Rate Respondents

The statute and our regulations do not address the establishment of a rate to be assigned to respondents not selected for individual examination when we limit our examination of companies subject to the administrative review pursuant to section 777A(c)(2)(B) of the Act. Generally, Commerce looks to section 735(c)(5) of the Act, which provides instructions for calculating the all-others rate in an investigation, for guidance when calculating the rate for respondents not individually examined in an administrative review. Section 735(c)(5)(A) of the Act states that the all-others rate is normally “an amount equal to the weighted average of the estimated weighted average dumping margins established for exporters and producers individually investigated, excluding any zero and de minimis margins, and any margins determined entirely {on the basis of facts available}.” When the rates for individually examined companies are all zero, de minimis, or based entirely on facts available, section 735(c)(5)(B) of the Act provides that Commerce may use “any reasonable method” to establish the all-others rate.

For these final results, we calculated a weighted-average dumping margin that is not zero, de minimis, or determined entirely on the basis of facts available for Alcha. Accordingly, consistent with our Preliminary Results, Commerce has assigned Yinbang Clad, the sole separate rate respondent that was not selected for individual examination, a margin of 51.50 percent, Alcha's calculated weighted-average dumping margin, for these final results.

The China-Wide Entity

In accordance with Commerce policy,¹⁰ because no party requested a review of the China-wide entity, and Commerce did not self-initiate a review of the entity, the China-wide entity is not under review, and the dumping margin assigned to the China-wide entity (i.e., 59.72 percent) is not subject to change.¹¹ Commerce does not consider any company under review as part of the China-wide entity because every company under review demonstrated separate rate eligibility.

¹⁰ See Antidumping Proceedings: Announcement of Change in Department Practice for Respondent Selection in Antidumping Duty Proceedings and Conditional Review of the Nonmarket Economy Entity in NME Antidumping Duty Proceedings, 78 FR 65963, 65969-70 (November 4, 2013).

¹¹ See Order, 84 FR at 2814.

Final Results of Administrative Review

For the companies subject to this administrative review that established their eligibility for a separate rate, Commerce determines that the following weighted-average dumping margins exist for the period February 1, 2020, through January 31, 2021:

¹² For the purposes of this review, we have considered the names Jiangsu Alcha Aluminum Co., Ltd. and Jiangsu Alcha Aluminium Co., Ltd., as equivalent.

Exporter | Weighted-average dumping margin (percent)
Jiangsu Alcha Aluminum Co., Ltd.¹²/Baotou Alcha Aluminum Co., Ltd./Alcha International Holdings Limited | 51.50
Non-Selected Company Under Review Receiving a Separate Rate
Yinbang Clad Material Co., Ltd | 51.50

Disclosure

Pursuant to 19 CFR 351.224(b), within five days of the publication of this notice in the Federal Register, we will disclose to the parties in this proceeding, the calculations that we performed for these final results of review.

Assessment Rates

Pursuant to section 751(a)(2)(C) of the Act and 19 CFR 351.212(b), Commerce has determined, and U.S. Customs and Border Protection (CBP) shall assess, antidumping duties on all appropriate entries of subject merchandise in accordance with these final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

Where Alcha reported reliable entered values, we calculated importer- (or customer-) specific ad valorem rates by aggregating the dumping margins calculated for all U.S. sales to each importer (or customer) and dividing this amount by the total entered value of the sales to each importer (or customer).¹³ Where Commerce calculated a weighted-average dumping margin by dividing the total amount of dumping for reviewed sales to that party by the total sales quantity associated with those transactions, Commerce will direct CBP to assess importer- (or customer-) specific assessment rates based on the resulting per-unit rates.¹⁴ Where an importer- (or customer-) specific ad valorem or per-unit rate is greater than de minimis (i.e., 0.50 percent), Commerce will instruct CBP to collect the appropriate duties at the time of liquidation.¹⁵ Where an importer- (or customer-) specific ad valorem or per-unit rate is zero or de minimis, Commerce will instruct CBP to liquidate appropriate entries without regard to antidumping duties.¹⁶

¹³ See 19 CFR 351.212(b)(1).

¹⁴ Id.

¹⁵ Id.

¹⁶ See 19 CFR 351.106(c)(2).

For the non-selected respondent that received a separate rate, Yinbang Clad, we will instruct CBP to apply an antidumping duty assessment rate of 51.50 percent to all entries of subject merchandise that entered the United States during the POR.

Cash Deposit Requirements

The following cash deposit requirements will be effective upon publication of the final results of this review for shipments of the subject merchandise from China entered, or withdrawn from warehouse, for consumption on or after the publication date, as provided by section 751(a)(2)(C) of the Act: (1) for subject merchandise exported by the companies listed above that have separate rates, the cash deposit rate will be the rate established in these final results of review for each exporter as listed above; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Reimbursement of Duties

This notice also serves as the final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These final results of review are issued and published in accordance with sections 751(a) and 777(i)(1) of the Act, and 19 CFR 351.221(b)(5).

Dated: August 31, 2022.
Lisa W. Wang,
Assistant Secretary for Enforcement and Compliance.

Appendix—List of Topics Discussed in the Issues and Decision Memorandum

I. Summary

II. Background

III. Scope of the Order

IV. Changes to the Preliminary Results

V. Discussion of the Issues

Comment 1-A: Selection of Surrogate Country

Comment 1-B: Selection of Surrogate Financial Statement

Comment 2: Application of Partial Adverse Facts Available (AFA)

Comment 3: Partial AFA Methodology

Comment 4: Double Remedies Adjustment

Comment 5: Selection of Surrogate Values (SV) for Recycled Aluminum and Aluminum Scrap

Comment 6: Selection of Surrogate Distance of North American Inland Train Freight

Comment 7: Selection of SV for Ocean Freight

Comment 8: Unit Conversion in the Calculation of the SV for North American Inland Train Freight

Comment 9: Valuation of Domestic Inland Freight for Factors of Production (FOP)

VI. Recommendation

[FR Doc. 2022-19342 Filed 9-7-22; 8:45 am]

BILLING CODE 3510-DS-P